NUCLEAR REGULATORY COMMISSION

[Docket No. 50-285]

Omaha Public Power District; Notice of Consideration of Issuance of Amendment to Facility Operating License, Proposed No Significant Hazards Consideration Determination, and Opportunity for a Hearing

The U.S. Nuclear Regulatory Commission (the Commission) is considering issuance of an amendment to Facility Operating License No. DPR-40, issued to Omaha Public Power District (the licensee), for operation of the Fort Calhoun Station, Unit 1 (FCS) located in Washington County, Nebraska.

The proposed amendment would add an exception to the technical specifications to perform the surveillance test of Table 3-2, Item 20 (Recirculation Actuation Logic Channel Functional Test) under administrative controls while components in excess of those allowed by Conditions a, b, d, and e of Technical Specification (TS) 2.3(2) are inoperable provided they are returned to operable status within one hour. This exception will apply only to the remainder of Cycle 20 and the entirety of Cycle 21.

During the NRC Safety System Design and Performance Capability (SSDPC) inspection in February 2002, station personnel were informed that manual operator actions could not be used in lieu of automatic actions to maintain equipment operable without prior NRC approval. A comprehensive review was conducted of plant procedures that used manual actions in place of automatic actions in order to allow equipment to remain operable. The quarterly Recirculation Actuation Logic Channel Functional Test was identified as one of the tests affected. The licensee determined on March 26, 2002, that the surveillance could not be performed without a technical specification change, as there was insufficient time to make a modification to allow the performance of the test online without taking credit for operator action. This test was due to be performed on March 21, 2002, and will exceed its surveillance frequency and extension on April 21, 2002. Therefore, OPPD has requested an exigent TS change to allow this surveillance to be performed to avoid shutting down the plant.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

The proposed change does not involve a significant increase in the probability or consequences of an accident previously evaluated.

Allowing performance of the quarterly surveillance test of Table 3-2, Item 20 (Recirculation Actuation Logic Channel Functional Test) under administrative controls while components in excess of those allowed by Conditions a, b, d, and e of Technical Specification (TS) 2.3(2) are inoperable provided they are returned to operable status within one hour will not affect the probability of any accident since the performance of the Recirculation Actuation Logic Channel Functional Test is not identified as the initiator of any analyzed event. This allowance applies only to the remaining portion of Cycle 20 and all of Cycle 21. The proposed change will still require that the surveillance test be performed and the required ECCS [emergency core cooling system] systems to be available. The one hour completion time is considered sufficient time to perform the quarterly Recirculation Actuation Logic Channel Functional Test. Additionally, the one hour completion time ensures that prompt action is taken to restore the required ECCS capacity. The administrative controls in place will ensure that all required ECCS components remain available with compensatory dedicated operators. Closure of the recirculation minimum flow valves during testing could adversely affect all HPSI [high pressure safety injection], LPSI [low pressure safety injection] and CS [containment spray] pumps. However, manual operator actions serve to minimize the probability of this occurring and risk analysis concludes that the risk of this is small. This change will not alter assumptions relative to the mitigation of an accident or transient event. The performance of this activity has no affect on any accident scenario. Therefore, the proposed change does not involve a significant increase in the consequences of an accident previously evaluated.

The proposed change does not create the possibility of a new or different kind of accident from any accident previously evaluated.

These proposed changes do not involve a physical alteration of the plant (no new or different type of equipment will be installed) or change the methods governing plant operation. The proposed change does not involve any physical changes to plant systems, structures or components (SSCs) or the manner in which these SSCs are operated, maintained, modified or inspected. Therefore, these changes do not create the possibility of a new or different kind of accident from any accident previously evaluated.

The proposed change does not involve a significant reduction in a margin of safety.

The most risk significant portion of the Recirculation Actuation Logic Channel Functional Test is the opening of the recirculation minimum flow valve within three minutes of the receipt of a RAS [recirculation actuation signal] signal in order to prevent damage to the HPSI pumps. The manual actions have been determined to be acceptable and does not result in a significant reduction in any margin of safety. The bounding risk for the test is an Incremental Core Damage Probability (ICDP) of approximately 6.2E-09 for the 30 minutes during which the RAS portion of the test is performed. The proposed change does not affect the frequency of the Recirculation Actuation Logic Channel Functional Test. The administrative controls in place will ensure that all required ECCS components remain available. The minimum numbers of ECCS components required by the FCS accident analyses remain available with compensatory dedicated operators. The proposed change will not significantly impact the availability or reliability of the plants systems or their ability to respond to plant transients and accidents. The one hour completion time allowed to satisfy ECCS requirements is acceptable based on the small probability of an event occurring during this time interval that the test is performed, and the desire to minimize plant shutdown transients. The performance of this activity has no affect on any accident scenario. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By May 6, 2002, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714, which is available at the Commission's Public Document Room, located at One White Flint North, 11555 Rockville Pike (first floor), Rockville, Maryland, and available electronically on the Internet at the NRC Web site http://www.nrc.gov/reading-rm/doc-collections/cfr/. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to James R. Curtiss, Esq., Winstron & Strawn, 1400 L Street, NW., Washington, DC 20005-3502, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated April 1, 2002, which is available for public inspection at the Commission's Public Document Room (PDR), located at One White Flint North, 11555 Rockville Pike (first floor), Rockville, Maryland. Publicly available records will be accessible electronically from the Agencywide Documents Access and Management System (ADAMS) Public Electronic Reading Room on the Internet at the NRC web site http://www.nrc.gov/reading-rm/adams.html. Persons who do not have access to ADAMS or who encounter problems in accessing the documents located in ADAMS, should contact the NRC PDR Reference staff by telephone at 1-800-397-4209, 301-415-4737 or by e-mail to pdr@nrc.gov.

Dated at Rockville, Maryland, this 1st day of April, 2002.
For the Nuclear Regulatory Commission.
Alan Wang,
Project Manager, Section 2, Project Directorate IV, Division of Licensing Project Management, Office of Nuclear Reactor Regulation.

[FR Doc. 02-8241 Filed 4-3-02; 8:45 am]

BILLING CODE 7590-01-P